Title 3—

The President

Proclamation 10139 of January 19, 2021

Adjusting Imports of Aluminum Into the United States

By the President of the United States of America

A Proclamation

1. On January 19, 2018, the Secretary of Commerce (Secretary) transmitted to me a report on his investigation into the effect of imports of aluminum articles on the national security of the United States under section 232 of the Trade Expansion Act of 1962, as amended (19 U.S.C. 1862). The Secretary found and advised me of his opinion that aluminum articles were being imported into the United States in such quantities and under such circumstances as to threaten to impair the national security of the United States.

2. In Proclamation 9704 of March 8, 2018 (Adjusting Imports of Aluminum Into the United States), I concurred in the Secretary's finding that aluminum articles were being imported into the United States in such quantities and under such circumstances as to threaten to impair the national security of the United States, and decided to adjust the imports of aluminum articles, as defined in clause 1 of Proclamation 9704, by imposing a 10 percent ad valorem tariff on such articles imported from most countries. I further stated that any country with which we have a security relationship is welcome to discuss with the United States alternative ways to address the threatened impairment of the national security caused by imports from that country. I also noted that, should the United States and any such country arrive at a satisfactory alternative means to address the threat to the national security such that I determine that imports from that country no longer threaten to impair the national security, I may remove or modify the restriction on aluminum article imports from that country and, if necessary, make corresponding adjustments to the tariff as it applies to other countries as the national security interests of the United States require.

3. The United States has an important security relationship with the United Arab Emirates, including our shared commitment to supporting each other in addressing national security concerns in the Middle East, particularly in countering Iran's malign influence there; combatting violent extremism around the world; and maintaining the strong economic ties between our countries.

4. In light of the foregoing, the United States has engaged in discussions with the United Arab Emirates on alternative means to address the threatened impairment to our national security posed by aluminum article imports from the United Arab Emirates. On the basis of these discussions, the United States and the United Arab Emirates have now agreed on satisfactory alternative means to address this threat.

5. The United States has successfully concluded discussions with the United Arab Emirates on satisfactory alternative means to address the threatened impairment of the national security posed by aluminum imports from the United Arab Emirates, specifically a quota restricting the quantity of aluminum articles imported into the United States from the United Arab Emirates. This measure is expected to allow imports of aluminum from the United Arab Emirates to remain close to historical levels without meaningful increases, thus making it more likely that domestic capacity utilization will be reasonably commensurate with the target level recommended in the Secretary's report. In my judgment, this measure will provide effective, long-term alternative means to address the contribution of the United Arab Emirates to the threatened impairment to our national security by restraining aluminum article exports from the United Arab Emirates to the United States, limiting export surges by the United Arab Emirates, and discouraging excess aluminum capacity and excess aluminum production. In light of this agreement, I have determined that aluminum article imports from the United Arab Emirates will no longer threaten to impair the national security and have decided to exclude the United Arab Emirates from the tariff proclaimed in Proclamation 9704. The United States will monitor the implementation and effectiveness of the measure agreed with the United Arab Emirates in addressing our national security needs, and this determination may be revisited, as appropriate.

6. In light of my determination to exclude the United Arab Emirates from the tariff proclaimed in Proclamation 9704, as amended, I have considered whether it is necessary and appropriate in light of our national security interests to make any corresponding adjustments to such tariff as it applies to other countries. I have determined that, in light of the agreed-upon measure with the United Arab Emirates, it is necessary and appropriate, at this time, to maintain the current tariff level as it applies to other countries.

7. Section 232 of the Trade Expansion Act of 1962, as amended, authorizes the President to adjust the imports of an article and its derivatives that are being imported into the United States in such quantities or under such circumstances as to threaten to impair the national security.

8. Section 604 of the Trade Act of 1974, as amended (19 U.S.C. 2483), authorizes the President to embody in the Harmonized Tariff Schedule of the United States (HTSUS) the substance of statutes affecting import treatment, and actions thereunder, including the removal, modification, continuance, or imposition of any rate of duty or other import restriction.

NOW, THEREFORE, I, DONALD J. TRUMP, President of the United States of America, by the authority vested in me by the Constitution and the laws of the United States of America, including section 232 of the Trade Expansion Act of 1962, as amended, section 301 of title 3, United States Code, and section 604 of the Trade Act of 1974, as amended, do hereby proclaim as follows:

(1) Clause 2 of Proclamation 9704, as amended, is further amended in the second sentence by deleting “and” before “(g)” and inserting before the period at the end: “, and (h) on or after 12:01 a.m. eastern standard time on February 3, 2021, from all countries except Argentina, Australia, Canada, Mexico, and the United Arab Emirates.”.

(2) Clauses 1 and 4 of Proclamation 9776 of August 29, 2018 (Adjusting Imports of Aluminum Into the United States) are amended by replacing, in each instance, “subheadings 9903.85.05 and 9903.85.06” with “subheadings 9903.85.05 through 9903.85.08”.

(3) The “Article Description” for subheading 9903.85.01 of the HTSUS is amended by replacing “of Argentina, of Australia, of Canada, of Mexico” with “of Argentina, of Australia, of Canada, of Mexico, of the United Arab Emirates”.

(4) The superior text to subheading 9903.85.11 of the HTSUS is amended by replacing “of Argentina” with “of Argentina and of the United Arab Emirates”, and the “Article Description” for subheading 9903.85.11 of the HTSUS is amended by replacing “9903.85.05 and 9903.85.06” with “9903.85.05 through 9903.85.08”.

(5) In order to implement quantitative limitations on aluminum article imports from the United Arab Emirates, subchapter III of chapter 99 of the HTSUS is amended as provided for in Part A of the Annex to this proclamation. For purposes of administering these quantitative limitations, the annual aggregate limits set out in Part B of the Annex to this proclamation shall apply for the period starting with calendar year 2021 and for subsequent years, unless modified or terminated. The quantitative limitations for the United Arab Emirates, which for calendar year 2021 shall take into account all aluminum article imports since January 1, 2021, shall be effective for aluminum articles entered for consumption, or withdrawn from warehouse for consumption, on or after 12:01 a.m. eastern standard time on February 3, 2021, and shall be implemented by U.S. Customs and Border Protection (CBP) of the Department of Homeland Security as soon as practicable. The Secretary shall monitor the implementation of these quantitative limitations and shall, in consultation with the United States Trade Representative, inform the President of any circumstance that in the Secretary's opinion might indicate that an adjustment of the quantitative limitations is necessary.

(6) The modifications made by clauses 1 through 5 of this proclamation and the Annex to this proclamation shall be effective with respect to goods entered for consumption, or withdrawn from warehouse for consumption, on or after 12:01 a.m. eastern standard time on February 3, 2021, and shall continue in effect, unless such actions are expressly reduced, modified, or terminated.

(7) Any imports of aluminum articles from the United Arab Emirates that were admitted into a U.S. foreign trade zone under “privileged foreign status” as defined in 19 CFR 146.41, prior to 12:01 a.m. eastern standard time on February 3, 2021, shall not be subject, upon entry for consumption made on or after that date and time, to the additional 10 percent ad valorem rate of duty imposed by Proclamation 9704, as amended, and shall be subject to the quantitative limitations established in this proclamation.

(8) Any provision of previous proclamations and Executive Orders that is inconsistent with the actions taken in this proclamation is superseded to the extent of such inconsistency.

IN WITNESS WHEREOF, I have hereunto set my hand this nineteenth day of January, in the year of our Lord two thousand and twenty-one, and of the Independence of the United States of America the two hundred and forty-fifth.

Billing code 3295-F1-P

[FR Doc. 2021-01711

Filed 1-22-21; 8:45 am]

Billing code 7020-02-C